DEPARTMENT OF ENERGY

Federal Energy Regulatory Commission

[Project No. 8909-027]

Dietrich Drop Hydro, LLC, Big Wood Canal Company, American Falls Reservoir District No. 2; Notice of Application for Partial Transfer of License and Soliciting Comments, Motions To Intervene, and Protests

On February 16, 2023, Dietrich Drop Hydro, LLC (transferor), Big Wood Canal Company (co-licensee), and American Falls Reservoir District No. 2 (transferee), filed jointly an application for a partial transfer of license for the Dietrich Drop Water Power Project No. 8909.¹ The project is located on the Milner-Gooding Canal, Lincoln County, Idaho.

¹ Idaho Renewable Resources, et al., 39 FERC ¶ 62,210 (1987).

The applicants seek Commission approval to partially transfer the license for the Dietrich Drop Water Power Project from the Dietrich Hydro, LLC and Big Wood Canal Company as co-licensees to Big Wood Canal Company and American Falls Reservoir District No. 2 as co-licensees. The transferee will be required by the Commission to comply with all the requirements of the license as though it were the original licensee.

Applicants Contact: For Dietrich Drop Hydro, LLC (transferor): Randall Osteen, Hull Street Energy, LLC, General Counsel, Portfolio Companies, 4747 Bethesda Avenue, Suite 1220, Bethesda, MD 20814, Phone: (410) 303-4174, Email: rosten@hullstreetenergy.com, and Julia S. Wood, Rock Creek Energy Group, LLP, 1 Thomas Circle NW, Suite 700, Washington, DC 20005, Phone: (202) 998-2770, Email: jwood@rockcreekenergygroup.com.

For Big Wood Canal Company and American Falls Reservoir District No. 2 (transferee): Kevin Lakey, Manager, 409 N Apple Street, Shoshone, ID 83352, Phone: (208) 886-2331, Email: manager@bigwoodcanal.com, and Miriah Elliott, Wood Hydro LLC, 711 E Turtle Point Drive, Irvins, UT 84738, Phone: (801) 891-4147, Email: miriah@tsorenson.net

FERC Contact: Anumzziatta Purchiaroni, Phone: (202) 502-6191, Email: Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-8909-027. Comments emailed to Commission staff are not considered part of the Commission record.

Dated: March 24, 2023.
Debbie-Anne A. Reese,
Deputy Secretary.

[FR Doc. 2023-06605 Filed 3-29-23; 8:45 am]

BILLING CODE 6717-01-P